DEPARTMENT OF COMMERCE

National Oceanic and Atmospheric Administration

RIN 0648-XF844

Caribbean Fishery Management Council; Public Meeting

AGENCY: National Marine Fisheries Service (NMFS), National Oceanic and Atmospheric Administration (NOAA), Commerce.

ACTION: Notice of a public meeting.

SUMMARY: The Caribbean Fishery Management Council will hold its 161st meeting in December to discuss the items contained in the agenda in the SUPPLEMENTARY INFORMATION.

DATES: The meetings will be held on December 12-13, 2017, from 9 a.m. to 5 p.m.

ADDRESSES: The meetings will be held at the Marriott Resort San Juan Stellaris Casino Hotel, 1309 Ashford Avenue, Condado, San Juan, Puerto Rico 00907.

FOR FURTHER INFORMATION CONTACT: Caribbean Fishery Management Council, 270 Muñoz Rivera Avenue, Suite 401, San Juan, Puerto Rico 00918-1903, telephone: (787) 766-5926.

SUPPLEMENTARY INFORMATION:

December 12, 2017, 9 a.m.-5 p.m.

° Call to Order

° Adoption of Agenda

° Consideration of 160th Council Meeting Verbatim Transcriptions

° Executive Director's Report

—Status of the Caribbean Fisheries after the storms Irma and María

—Puerto Rico

—U.S. Virgin Island

° Scientific and Statistical Committee Meeting Report—Richard Appeldoorn

° Island-based Fishery Management Plans: Review of “Final” Draft Environmental Impact Statement Draft Actions and Alternatives for Each Island Group

—Action 1: Species to Manage

—Action 2: Species Groupings

—Action 3: Reference Points

—Action 4: Essential Fish Habitat for Stocks Not Previously Managed in Federal Waters

—Action 5: Framework Measures

—Next Steps/Timeline Review

° Ecosystem-based Fishery Management

—Roadmap Implementation Plan Status Report

—Update on Fishery Ecosystem Plan Development

° Other Business

—Public Comment Period—

(5-minutes presentations)

December 12, 2017, 5:30 p.m.-6:30 p.m.

° Administrative Matters

—CY 2017

—Closed Session

December 13, 2017, 9 a.m.-5 p.m.

° Outreach and Education Report—Alida Ortiz

° Enforcement Issues:

—Puerto Rico-DNER

—U.S. Virgin Islands-DPNR

—U.S. Coast Guard

—NMFS/NOAA

° Meetings Attended by Council Members and Staff

° Other Business

—Public Comment Period—

(5-minute presentations)

° Next Meeting

The order of business may be adjusted as necessary to accommodate the completion of agenda items. The meeting will begin on December 12, 2017 at 9 a.m. Other than the start time, interested parties should be aware that discussions may start earlier or later than indicated. In addition, the meeting may be extended from, or completed prior to the date established in this notice.

Although other non-emergency issues not on the agenda may come before this group for discussion, those issues may not be the subject of formal action during these meetings. Actions will be restricted to those issues specifically listed in this notice and any issues arising after publication of this notice that require emergency action under Section 305(c) of the Magnuson-Stevens Fishery Conservation and Management Act, provided the public has been notified of the Council's intent to take final action to address the emergency.

Special Accommodations

These meetings are physically accessible to people with disabilities. For more information or request for sign language interpretation and other auxiliary aids, please contact Mr. Miguel A. Rolón, Executive Director, Caribbean Fishery Management Council, 270 Muñoz Rivera Avenue, Suite 401, San Juan, Puerto Rico, 00918-1903, telephone: (787) 766-5926, at least 5 days prior to the meeting date.

Dated: November 17, 2017.
Tracey L. Thompson,
Acting Deputy Director, Office of Sustainable Fisheries, National Marine Fisheries Service.

[FR Doc. 2017-25366 Filed 11-22-17; 8:45 am]

BILLING CODE 3510-22-P